DEPARTMENT OF THE INTERIOR

Bureau of Land Management

[NMNM 0554560]

Public Land Order No. 7656; Revocation of Public Land Order No. 3620; New Mexico

AGENCY: Bureau of Land Management, Interior.

ACTION: Public Land Order.

SUMMARY: This order revokes, in its entirety, a public land order which withdrew 120 acres of public land and reserved it for use by the Forest Service as an administrative site. The land was never used for the intended purpose and the withdrawal is no longer needed.

DATES: Effective Date: March 13, 2006.

FOR FURTHER INFORMATION CONTACT: Gilda Fitzpatrick, BLM New Mexico State Office, 1474 Rodeo Road, Santa Fe, New Mexico 87502, 505-438-7597.

SUPPLEMENTARY INFORMATION: The Forest Service has determined that the withdrawal is no longer needed and has requested the revocation. The land will not be opened to surface entry or mining until completion of an analysis to determine if any of the land needs special designation.

Order

By virtue of the authority vested in the Secretary of the Interior by Section 204 of the Federal Land Policy and Management Act of 1976, 43 U.S.C. 1714 (2000), it is ordered as follows:

Public Land Order No. 3620 (30 FR 5379, April 15, 1965), which withdrew public land to protect a National Forest administrative site, is hereby revoked in its entirety.

Dated: February 27, 2006.
Mark Limbaugh,
Assistant Secretary of the Interior.

[FR Doc. E6-3525 Filed 3-10-06; 8:45 am]

BILLING CODE 4310-11-P